CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This application provides citizens with the opportunity to apply for team leader positions with the AmeriCorps NCCC program.

Currently, the Corporation is soliciting comments concerning its proposed renewal of AmeriCorps NCCC Team Leader Application. This application is used by applicants applying for a team leader position at one of NCCC's regional campuses.

Copies of the information collection requests can be obtained by contacting the office listed in the address section of this notice.

DATES: Written comments must be submitted to the office listed in the ADDRESSES section December 31, 2007.

ADDRESSES: You may submit comments, identified by the title of the information collection activity, by any of the following methods:

(1) By mail sent to: Corporation for National and Community Service, AmeriCorps NCCC; Attention Nicholas Zefran, Director of Member Services; 1201 New York Avenue, NW., 10th Floor; Washington, DC 20525.

(2) By hand delivery or by courier to the Corporation's mailroom at Room 8100 at the mail address given in paragraph (1) above, between 9 a.m. and 4 p.m. Monday through Friday, except Federal holidays.

(3) By fax to: (202) 606-3462, Attention Nicholas Zefran, Director of Member Services, AmeriCorps NCCC.

(4) Electronically through the Corporation's e-mail address system: nzefran@cns.gov.

FOR FURTHER INFORMATION CONTACT: Nicholas Zefran, 202-606-6703, or by e-mail at nzefran@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

AmeriCorps NCCC is a full-time residential national service program for 18-24-year-olds. The mission is to strengthen communities and develop leaders through team-based national and community service. Teams help communities meet compelling needs in the areas of disaster relief, education, housing, the environment and other unmet needs. The AmeriCorps NCCC solicits applications for team leaders to lead teams of 10-12 AmeriCorps members in this full-time national service program.

Current Action

The Corporation seeks to renew and revise the current application. This application will be used in the same manner as the existing application. The Corporation also seeks to continue using the current application until the revised application is approved by OMB. The current application is due to expire on 12/31/2007.

Type of Review: Renewal.

Agency: Corporation for National and Community Service.

Title: NCCC Team Leader Application.

OMB Number: 3045-0005.

Agency Number: None.

Affected Public: Citizens interested in serving as team leaders.

Total Number of Applicants: 300.

Frequency: Annually.

Average Time Application: 1 hour.

Estimated Total Burden Hours: 300 hours.

Total Burden Cost (capital/startup): None.

Total Burden Cost (operating/maintenance): None.

Comments submitted in response to this notice will be summarized and/or included in the request for Office of Management and Budget approval of the information collection request; they will also become a matter of public record.

Dated: October 26, 2007.
Merlene Mazyck,
Director, AmeriCorps*NCCC.

[FR Doc. E7-21519 Filed 10-31-07; 8:45 am]

BILLING CODE 6050-$$-P